DEPARTMENT OF HOMELAND SECURITY

Coast Guard

33 CFR Part 117

[CGD05-05-041]

Drawbridge Operation Regulations; Atlantic Intracoastal Waterway, South Branch of the Elizabeth River, Chesapeake, VA

AGENCY: Coast Guard, DHS.

ACTION: Interim Rule; reopening of comment period.

SUMMARY: The Coast Guard is reopening the period for public comment concerning drawbridge operation regulations; Atlantic Intracoastal Waterway, South Branch of the Elizabeth River, Chesapeake, VA, because the Dominion Boulevard (U.S. 17) Bridge is utilized frequently and members of the public have communicated to the Coast Guard that they would like to make additional comments.

DATES: Comments must reach the Coast Guard on or before March 10, 2006.

ADDRESSES: Identify your comments and related material by the docket number for this rulemaking [CGD05-05-041]. To make sure they do not enter the docket more than once, please submit them by only one of the following means:

(1) By mail to Commander (obr), Fifth Coast Guard District, 431 Crawford Street, Portsmouth, VA 23704.

(2) By hand delivery to Commander (obr), Fifth Coast Guard District, 431 Crawford Street, Portsmouth, VA 23704, between 8 a.m. and 4 p.m., Monday through Friday, except Federal holidays. The telephone number is (757) 398-6222.

(3) By fax to the Bridge Administration office at (757) 398-6334.

Commander, Fifth Coast Guard District (obr) maintains the public docket for this rulemaking. Comments and material received from the public, as well as documents indicated in this preamble, will become part of this docket and will be available for inspection or copying at the address listed above between 8 a.m. and 4 p.m., Monday through Friday, except Federal holidays.

FOR FURTHER INFORMATION CONTACT: For questions on this notice, contact Waverly W. Gregory, Jr., Commander (obr) Fifth Coast Guard District, by telephone at (757) 398-6222, or by e-mail at waverly.w.gregory@uscg.mil. For questions on viewing or submitting material to the docket, contact Mr. Waverly W. Gregory, Jr., Bridge Administrator, Fifth Coast Guard District, at (757) 398-6222.

SUPPLEMENTARY INFORMATION:

Regulatory History

On May 10, 2005, the Coast Guard published a Notice of Proposed Rulemaking (70 FR 24492). That document contains a detailed history of the Coast Guard's previous regulatory efforts regarding the Dominion Boulevard (U.S. 17) Bridge.

On August 19, 2005, the Coast Guard published an interim rule with request for comments entitled “Drawbridge Operation Regulations; Atlantic Intracoastal Waterway, South Branch of the Elizabeth River, Chesapeake, VA” (70 FR 48637). That document also contains a detailed history of the Coast Guard's previous regulatory efforts.

Reason for Reopening the Comment Period

In response to the Notice of Proposed Rulemaking, the Coast Guard received more than 700 comments from the public and in response to the interim rule received 32 comments from the public. The Coast Guard also received a letter from the Mayor of the City of Chesapeake, which requested an additional comment period. This letter was prompted by several phone conversations between the Bridge Administration Staff for the Fifth Coast Guard District and City of Chesapeake officials regarding the possible changes to the bridge schedule. This letter accurately describes the substance of these phone conversations and has been added to the docket for this rulemaking.

This rulemaking will affect numerous vehicle commuters and also maritime traffic. Therefore, the Coast Guard is seeking comment from the public before proceeding. During this time we will also accept comments from any other interested party. The Coast Guard requests that you not re-submit comments already in the docket.

Request for Comments

We encourage you to participate in this rulemaking by submitting your comments to Commander (obr), Fifth Coast Guard District as specified in ADDRESSES. We will consider comments received during this additional comment period and may change the rule in response to the comments.

Dated: January 5, 2006.
Larry L. Hereth,
Rear Admiral, U.S. Coast Guard, Commander, Fifth Coast Guard District.

[FR Doc. 06-333 Filed 1-12-06; 8:45 am]

BILLING CODE 4910-15-P